DEPARTMENT OF AGRICULTURE

Tribal Advisory Committee; Notice of Solicitation for Nominations

AGENCY: United States Department of Agriculture (USDA).

ACTION: Notice to solicit nominations for membership.

SUMMARY: Through this notice, the U.S. Department of Agriculture (USDA) is soliciting nominations for four (4) vacancies on the USDA Tribal Advisory Committee (“the Committee”). The Committee consists of eleven (11) members serving staggered terms. Three members will be appointed by the Secretary of Agriculture for a three-year term and one by the Ranking Member of the House Committee on Agriculture to serve the remainder of the vacancy term ending December 19, 2025. Members may only serve on one USDA advisory committee at a time. Candidates and alternates selected for potential appointments will undergo a USDA background check. Pursuant to the Committee's statutory authorization, only Indian tribes as defined by 25 U.S.C. 5304, Tribal organizations as defined by 25 U.S.C. 5304, or national or regional organizations with expertise in issues relating to the Committee may nominate candidates for consideration.

Complete nomination packages will include a nomination letter signed by a representative authorized to make decisions on behalf of the nominating entity, the nominee's resume, and a USDA Advisory Committee Membership Background Information form completed by the nominee (available online at https://www.usda.gov/sites/default/files/documents/ad-755-advisory-committee-commodity-board-background-information.pdf). Resumes or curriculum vitae must be limited to five one-sided pages and should include a summary of the following information: current and past organization affiliations; areas of expertise; education; career positions held; any other notable positions held; and geographic locations and regions served. Additional letters of endorsement are optional.

DATES: Nominations must be submitted via email September 22, 2025.

ADDRESSES: Please submit nominations and resumes for recognition and appointment by the Secretary of Agriculture and the Ranking members of the House Committee on Agriculture through Josiah Griffin, Designated Federal Officer, at Tribal.Relations@usda.gov.

FOR FURTHER INFORMATION CONTACT: Inquiries may be sent to, Josiah Griffin, Designated Federal Officer, USDA, Office of Tribal Relations, at Tribal.Relations@usda.gov.

SUPPLEMENTARY INFORMATION:

About the Committee: The Tribal Advisory Committee is established pursuant to section 12303 of the Agriculture Improvement Act of 2018 (Pub. L. 115-334) to advise the Secretary of Agriculture on matters relating to Tribal and Indian Affairs. The TAC defines “Indian affairs” similarly to the Senate Committee on Indian Affairs (SCIA) jurisdiction (as defined in Section 25 of S. Res. 71, 103rd Congress, 1st Session), which includes but is not limited to all matters pertaining to American Indian, Native Hawaiian, and Alaska Native peoples. The Committee Chairperson and Vice Chairperson shall be elected by the Committee from among its members.

Eligible Nominators: Nominations may only be submitted by signatories authorized to represent an Indian tribe as defined by 25 U.S.C. 5304, a Tribal organization as defined by 25 U.S.C. 5304, or a national or regional organization with expertise in issues relating to the above duties of the Committee. These organizations include but are not limited to intertribal consortia, national or regional tribal serving organizations, land-grant institutions, and credit institutions such as Native Community Development Financial Institutions. Nominees are not required to represent the nominating entity.

Nomination Packages: Nominating entities must submit a complete nomination package for full consideration. Documents should be typed and must include the following elements. Additional letters of endorsement are optional.

1. Nomination letters. Nomination letters must include a brief summary, no more than two pages, explaining the nominee's qualifications to serve on the Tribal Advisory Committee and addressing the membership composition and criteria described above. The signatory of these letters must be authorized to represent the nominating entity.

2. Resume. A resume providing the nominee's background, experience, and educational qualifications.

3. Background Information Form. A completed Advisory Committee or Research and Promotion Background Information form (AD-755) signed by the nominee available online at https://www.usda.gov/sites/default/files/documents/ad-755.pdf.

Meeting Frequency: The Committee is required by law to meet at least twice in-person per year and is expected to convene quarterly, with meetings hosted virtually between in-person meetings. All Committee meetings will be announced in the Federal Register.

Appointment Terms: All official Appointees will each have access to this same Federal Register nomination process. Pursuant to the Federal Advisory Committee Act (5 U.S.C. 10), notice is hereby given that the Secretary of Agriculture will appoint three members for upcoming vacancies to serve a three (3) year term beginning December 2025 and ending in December 2028. The Ranking Member of the House Committee on Agriculture will appoint one (1) member for a current vacancy term ending December 2026.

Membership Balance: Pursuant to 7 U.S.C. 6921(b)(3)(c), to the maximum extent feasible, the Secretary shall ensure that the members of the Committee represent a diverse set of expertise on issues relating to geographic regions, Indian tribes, and the agricultural industry. USDA encourages nominees reflect the broad slate of what makes American agriculture great including but not limited to farmers/ranchers, food businesses, subsistence foragers, foresters, agriculture educators and land-grant faculty/staff, extension and technical assistance specialists, agriculture financiers (banks and credit institutions), Tribal leaders and Tribal government officials, and agriculture/forestry law experts.

Equal opportunity practices, in accordance with USDA policies, will be followed in all membership appointments to the Committee.

In accordance with Federal civil rights law and U.S. Department of Agriculture (USDA) civil rights regulations and policies, the USDA, its Agencies, offices, and employees, and institutions participating in or administering USDA programs are prohibited from discriminating based on race, color, national origin, religion, sex, disability, age, marital status, family/parental status, income derived from a public assistance program, political beliefs, or reprisal or retaliation for prior civil rights activity, in any program or activity conducted or funded by USDA (not all bases apply to all programs). Remedies and complaint filing deadlines vary by program or incident.

Persons with disabilities who require alternative means for communication of program information (Braille, large print, audiotape, etc.) should contact USDA's TARGET center at (202) 720-2600 (voice and TDD) or the State or local Agency that administers the program.

Dated: August 6, 2025.
Cikena Reid,
USDA Committee Management Officer.

[FR Doc. 2025-15125 Filed 8-7-25; 8:45 am]

BILLING CODE 3420-AG-P